DEPARTMENT OF JUSTICE

Notice of Lodging of Proposed Consent Decree Under the Comprehensive Environmental Response, Compensation, and Liability Act

On July 29, 2016, the Department of Justice lodged a proposed consent decree with the United States District Court for the Southern District of Georgia in the lawsuit entitled United States v. Honeywell International Inc. and Georgia Power Company, Civil Action No. 2:16-cv-00112-LGW-RSB.

The United States, on behalf of the U.S. Environmental Protection Agency (EPA), filed this lawsuit under the Comprehensive Environmental Response, Compensation, and Liability Act (CERCLA). The complaint seeks performance of response actions to address contamination of mercury, polychlorinated biphenyls, lead, and polycyclic aromatic hydrocarbons in the saltwater marsh at the LCP Chemicals Superfund Site in Brunswick, Georgia. It also seeks recovery of costs that the United States will incur in overseeing implementation of the response actions. The marsh is known as “Operable Unit 1,” one of three contaminated areas at the Site.

The proposed consent decree would resolve the claims alleged in the complaint. It requires the defendants, Honeywell International Inc. and Georgia Power Company, to implement the remedy selected by EPA for Operable Unit 1, which is estimated to cost $28.6 million. The consent decree also requires the defendants to pay future response costs incurred by EPA at Operable Unit 1.

The publication of this notice opens a period for public comment on the consent decree. Comments should be addressed to the Assistant Attorney General, Environment and Natural Resources Division, and should refer to United States v. Honeywell International Inc. and Georgia Power Company, D.J. Ref. No. 90-11-2-1237/3. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $322.00 (25 cents per page reproduction cost) payable to the United States Treasury. For a paper copy without the exhibits and signature pages, the cost is $9.25.

Henry S. Friedman,
Assistant Section Chief, Environmental Enforcement Section, Environment and Natural Resources Division.

[FR Doc. 2016-18454 Filed 8-3-16; 8:45 am]

BILLING CODE 4410-15-P